DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP).

Times and Dates: 8:30 a.m.-6 p.m., February 16, 2000.8 a.m.-5 p.m., February 17, 2000.

Place: Atlanta Marriott Century Center, 2000 Century Boulevard, NE., Atlanta, Georgia 30345-3377.

Status: Open to the public, limited only by the space available.

Purpose: The Committee is charged with advising the Director, CDC, on the appropriate uses of immunizing agents.In addition, under 42 U.S.C. § 1396s, the Committee is mandated to establish and periodically review and, as appropriate, revise the list of vaccines for administration to vaccine-eligible children through the Vaccines for Children (VFC) program, along with schedules regarding the appropriate periodicity, dosage, and contraindications applicable to the vaccines.

Matters To Be Discussed: The agenda will include a discussion on the revision of the ACIP recommendations for the pneumococcal conjugate vaccine; cost benefit analysis of the pneumococcal conjugate vaccine; update on the revision of the general recommendations; update on the adult immunization recommendations; update on the standing orders for adult immunization, adverse events after use of yellow fever vaccine; prevention of pneumococcal disease and vaccination in persons 50-64 years of age; use of DTaP as the fifth dose following four doses of DTaP; 2000-2001 control and prevention of influenza recommendations; update of 1999-2000 influenza season and vaccine strain selection process; lyme disease vaccine update: trials in children, alternate dosing, boosters, VAERS data; effect of changes in hepatitis B immunization recommendations due to concerns about thimerosal; 2-dose adolescent hepatitis B vaccination; Vaccines for Children vote on FDA approved schedule for 2-dose adolescent hepatitis B vaccination, inactivated polio virus vaccine, pneumococcal vaccine, and rotavirus vaccine; high-speed needle-free jet injectors and mass vaccination for pandemic influenza or bioterrorism; update on the bioterrorism and anthrax work group; an update from the Food and Drug Administration; update from the National Center for Infectious Diseases; update from the National Immunization Program; update from the Vaccine Injury Compensation Program; update from the National Vaccine Program; review of immunogenicity of Pentacel® and update on the Infanrix® vaccine. Other matters of relevance among the committee's objectives may be discussed.

Agenda items are subject to change as priorities dictate.

CONTACT PERSON FOR MORE INFORMATION: Gloria A. Kovach, Program Analyst, Epidemiology and Surveillance Division,National Immunization Program, CDC, 1600 Clifton Road, NE., m/s E61, Atlanta, Georgia 30333. Telephone 404/639-8096.

The Director, Management Analysis and Services office has been delegated the authority to sign Federal Register notices pertaining to announcements of meetings and other committee management activities for both the Centers for Disease Control and Prevention and the Agency for Toxic Substances and Disease Registry.

Dated: January 20, 2000.
Carolyn J. Russell,
Director, Management Analysis and Services Office, Centers for Disease Control and Prevention (CDC).

[FR Doc. 00-1919 Filed 1-28-00; 8:45 am]

BILLING CODE 4163-18-P